DEPARTMENT OF THE INTERIOR

Bureau of Land Management

[LLNVL01000.L14300000.EU0000 LXSS122F0000 241A; N-87866; 12-08807; MO#4500066682;TAS: 14X5232]

Notice of Realty Action: Competitive Sale of Public Lands (N-87866) in White Pine County, NV

AGENCY: Bureau of Land Management, Interior.

ACTION: Notice.

SUMMARY: The Bureau of Land Management (BLM) proposes to offer by competitive sale, a 38.02-acre parcel of public land in White Pine County, NV, at no less than the appraised fair market value (FMV) of $135,000. The sale will be subject to the applicable provisions of the Federal Land Policy and Management Act of 1976 (FLPMA), as amended, and applicable BLM land sale regulations.

DATES: Interested parties may submit written comments to the BLM at the address below. The BLM must receive your comments on or before March 2, 2015. The oral auction will be held on April 1, 2015, at 10:00 a.m., Pacific Standard Time at the Ely District Office, 702 North Industrial Way, Ely, NV 89301.

ADDRESSES: Send written comments concerning the proposed sale to the BLM Ely District Office, HC 33 Box 33500, or 702 North Industrial Way, Ely, NV 89301.

FOR FURTHER INFORMATION CONTACT: Paul Podborny, Schell Field Manager, at Ely District Office, 702 N. Industrial Way, Ely, NV 89301, or by telephone at 775-289-1800, or by email at ppodborny@blm.gov; or Jill A. Moore, Egan Field Manager, by telephone at 775-289-1800, or by email at jmoore@blm.gov, or email at http://www.blm.gov/nv/st/en/fo/ely_field_office.html. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM will conduct a competitive sale for a 38.02-acre parcel of public land located approximately one-quarter mile northwest of Ely, NV, in White Pine County NV.

Mount Diablo Meridian, Nevada

T. 16 N., R. 63 E.,

Sec. 16, lot 4.

The area described contains 38.02 acres.

This tract of public land has been identified for disposal by the BLM in the Ely District Record of Decision and Approved Resource Management Plan (ROD/RMP), dated August 20, 2008, as referenced in the Lands and Realty objectives LR-11, page 67, and Appendix B, page B-4. Disposal of the Parcel with be conducted consistent with Section 203 of FLPMA and Public Law 109-432, the Tax Relief and Health Care Act of 2006, Title III—White Pine County Conservation, Recreation and Development Act (WPCCRDA), enacted on December 20, 2006. This parcel is among the 45,000 acres chosen for disposal in accordance with Public Law 109-432. The parcel is not required for any other Federal purposes, and its disposal would be in the public interest and meets the intent of the WPCCRDA.

The use of the competitive, oral-bid sale method is consistent with 43 CFR 2710.0-6. Under that provision, public land is being offered for sale utilizing competitive bidding procedures when the authorized officer determines there would be a number of interested parties bidding for the lands and lands are within a developing or urbanizing area and land values are increasing due to their location and interest on the competitive market. Competitive sale procedures: In accordance with 43 CFR 2711.3-1, oral bids may be made by a principal or a duly qualified agent. The highest qualifying oral bid received shall be publicly declared by the authorized officer. The person declared to have entered the highest qualifying bid shall submit payment by certified check, U.S. postal money order, bank draft or cashier's check made payable to the Department of the Interior—Bureau of Land Management for the amount not less than 20 percent of the amount of the bid immediately following the close of the sale. The successful bidder shall submit the full bid price prior to the expiration of 180 days from the date of the sale. Failure to submit the full bid price within the allotted time, shall result in cancellation of the sale of the specific parcel and the deposit shall be forfeited and disposed of as other receipts of sale. In the event the authorized officer rejects the highest qualified bid or releases the bidder from it, the authorized officer shall determine whether the public lands shall be withdrawn from the market or be reoffered.

The acceptance or rejection of any offer to purchase shall be in writing no later than 30 days after receipt of such offer unless the officer waives his right to a decision within such 30-day period.

Until the acceptance of the offer and payment of the purchase price, the bidder has no contractual or other rights against the United States, and no action taken shall create any contractual or other obligations of the United States.

The WPCCRDA (P.L. 109-432), section 311(h)(1), provides that Federal land described in subsection (a) of that Act is withdrawn from all forms of entry and appropriation under the public land laws and mining laws; all minerals will be retained by the Federal Government. A Mineral Potential Report was completed on June 7, 2013.

Upon publication of this Notice in the Federal Register, the described lands will be segregated from all forms of appropriation under the public land laws, including the mining laws, except for the sale provisions of FLPMA. Upon publication of this Notice and until completion of the sale, the BLM will no longer accept land use applications affecting the identified public lands, except applications for the amendment of previously filed right-of-way (ROW) applications or existing authorizations to increase the term of the grants in accordance with 43 CFR 2807.15 and 2886.15. The segregative effect will terminate upon issuance of a patent, publication in the Federal Register of a termination of the segregation, or January 16, 2017, unless extended by the BLM State Director, Nevada, in accordance with 43 CFR 2711.1-2(d) prior to the termination date.

Any conveyance document issued would be subject to the following terms, conditions, and reservations:

1. A reservation for any right-of-way thereon for ditches or canals constructed by authority of the United States under the Act of August 30, 1890 (43 U.S.C. 945);

2. All minerals, together with the right to prospect for, mine, and remove such deposits from the same under applicable law and such regulations as the Secretary of the Interior may prescribe shall be reserved to the United States;

3. The parcel will be subject to all valid existing rights, including ROW N-55259 for an access road granted to Tom and Margaret Bath; and N-17924 for an overhead power line granted to Mt. Wheeler Power, their successors or assigns pursuant to the Act of October 21, 1976 (43 U.S.C. 1761);

4. By accepting this patent, the patentees agree to indemnify, defend, and hold the United States harmless from any costs, damages, claims, causes of action, penalties, fines, liabilities, and judgments of any kind or nature arising from the past, present, and future acts or omissions of the patentee, its employees, agents, contractors, or lessees, or any third-party, arising out of or in connection with the patentee's use, occupancy, or operations on the patented real property. This indemnification and hold harmless agreement includes, but is not limited to, acts and omissions of the patentee, its employees, agents, contractors, or lessees, or any third party, arising out of or in connection with the use and/or occupancy of the patented real property resulting in: (a) Violations of Federal, State, and local laws and regulations applicable to the real property; (b) Judgments, claims or demands of any kind assessed against the United States; (c) Costs, expenses, or damages of any kind incurred by the United States; (d) Releases or threatened releases of solid or hazardous waste(s) and/or hazardous substance(s), as defined by Federal or State environmental laws, off, on, into or under land, property and other interests of the United States; (e) Activities by which solid waste or hazardous substances or waste, as defined by Federal and State environmental laws are generated, released, stored, used or otherwise disposed of on the patented real property, and any cleanup response, remedial action or other actions related in any manner to said solid or hazardous substances or wastes; or (f) Natural resource damages as defined by Federal and State law. This covenant shall be construed as running with the patented real property, and may be enforced by the United States in a court of competent jurisdiction;

5. Pursuant to the requirements established by section 120(h) of the Comprehensive Environmental Response, Compensation, and Liability Act, U.S.C. 9620(h), notice is hereby given that the described lands have been examined and no evidence was found to indicate that any hazardous substances have been stored for 1 year or more; and

6. No warranty of any kind, express or implied, is given by the United States, its officers or employees, as to title, access to or from the above described parcel of land, whether or to what extent the land may be developed, its physical condition, or past, present or future use, or any other circumstances or condition. The conveyance of any such parcel will not be on a contingency basis.

Bidders must demonstrate to the satisfaction of the authorized officer that they meet the requirements of 43 CFR 2711.2 to hold real property in the United States. Failure to submit documentation to the BLM within 30 days from receipt of the high bidder letter shall result in the cancellation of the bid.

Information concerning the sale, appraisals, reservations, sale procedures and conditions, maps, other environmental documents, and mineral report are available for review during business hours, 7:30 a.m. to 4:30 p.m., Pacific Time (PT), Monday through Friday, at the Ely District Office, except during federally recognized holidays.

The parcel is subject to limitations prescribed by law and regulation, and prior to patent issuance, a holder of any ROW within the parcel will have the opportunity to amend the ROW for conversion to a new term, including perpetuity, if applicable, or to an easement. The BLM will notify valid existing ROW holders of their ability to convert their compliant ROW to perpetual ROW or easements. Each valid holder will be notified in writing of their rights and then must apply for the conversion of their current authorization.

Unless other satisfactory arrangements are approved in advance by a BLM authorized officer, conveyance of title shall be through escrow. Designation of the escrow agent shall be through mutual agreement between the BLM and the prospective patentee, and costs of escrow shall be borne by the prospective patentee.

The Ely District Office must receive request for escrow instructions prior to 30 days before the scheduled closing date. There are no exceptions.

All name changes and supporting documentation must be received at the Ely District Office 30 days from the date on the high bidder letter by 4:30 p.m. Pacific Time. Name changes will not be accepted after that date. To submit a name change, the apparent high bidder must submit the name change on the Certificate of Eligibility form to the Ely District Office in writing. Certificate of Eligibility forms are available at the Ely District Office and at the BLM Web site at: http://www.blm.gov/nv/st/en/fo/ely_field_office.

The BLM will not sign any documents related to 1031 Exchange transactions. The timing for completion of the exchange is the bidder's responsibility in accordance with Internal Revenue Service regulations. The BLM is not a party to any 1031 Exchange. In accordance with 43 CFR 2711.3-1(f), the BLM may accept or reject any or all offers to purchase, or withdraw any parcel of land or interest therein from sale, if, in the opinion of the BLM authorized officer, consummation of the sale would be inconsistent with any law, or for other reasons.

In order to determine the FMV, certain assumptions may have been made concerning the attributes and limitations of the lands and potential effects of local regulations and policies on potential future land uses. Through publication of this Notice, the BLM advises that units of local Government may not endorse or approve these assumptions. The buyer must be aware of all applicable Federal, State, and local Government laws, regulations, and policies that may affect the subject lands, including any required dedication of lands for public uses. It is also the buyer's responsibility to be aware of existing or prospective uses of nearby properties. When conveyed out of Federal ownership, the lands will be subject to any applicable laws, regulations, and policies of the applicable local government for proposed future uses. It will be the responsibility of the purchaser to be aware through due diligence of those laws, regulations, and policies, and to seek any required local approvals for future uses. Buyers should make themselves aware of any Federal or State law or regulation that may affect the future use of the property. Lands lacking access from a public road or highway will be conveyed as such, and future access acquisition will be the responsibility of the buyer.

The BLM will only consider written comments as properly filed. No facsimiles, emails, or telephone calls will be considered as validly submitted comments. Before including your address, phone number, email address, or other personal identifying information in your comment, you should be aware that your entire comment including your personal identifying information may be made publicly available at any time. While you can ask us in your comment to withhold your personal identifying information from public review, we cannot guarantee that we will be able to do so.

Any comments regarding the proposed sale will be reviewed by the BLM Nevada State Director, who may sustain, vacate, or modify this realty action. In the absence of any adverse comments, this realty action will become the final determination of the Department of the Interior.

Authority: 43 CFR 2711.1-2(a) and (c).

Jill A. Moore,
Manager, Egan Field Office.

[FR Doc. 2015-00348 Filed 1-13-15; 8:45 am]

BILLING CODE 4310-HC-P